DEPARTMENT OF TRANSPORTATION

Federal Aviation Administration

14 CFR Part 39

[Docket No. FAA-2006-23888; Directorate Identifier 2005-SW-03-AD]

RIN 2120-AA64

Airworthiness Directives; Eurocopter France Model AS350B, BA, B1, B2, B3, C, D, and D1 Helicopters

AGENCY: Federal Aviation Administration, DOT.

ACTION: Notice of proposed rulemaking (NPRM).

SUMMARY: This document proposes adopting a new airworthiness directive (AD) for Eurocopter France (Eurocopter) Model AS350B, BA, B1, B2, B3, C, D, and D1 helicopters that have a Geneva Aviation, Inc. (Geneva) P132 console (console) installed. This proposal would require installing right and left side Geneva cyclic control sticks and modifying the cyclic grips and the co-pilot cyclic stand (receptacle). This proposal is prompted by reports that pilots had restricted cyclic stick travel when using Eurocopter factory-installed cyclic sticks in a helicopter that has been modified in accordance with a certain Supplemental Type Certificate (STC) for the installation of a Geneva P132 console. The actions specified by this proposed AD are intended to prevent restricting full lateral movement of the cyclic control during high lateral center of gravity (CG) load operations in high cross winds and during slope takeoffs or landings, and subsequent loss of control of the helicopter.

DATES: Comments must be received on or before May 1, 2006.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Geneva Aviation, Inc., 20021-80th Avenue Ave. South, Kent, Washington 98032; telephone: (800) 546-2210; fax: (800) 546-2220; Internet: http://www.GenevaAviation.com.

You may examine the comments to this proposed AD in the AD docket on the Internet at http://dms.dot.gov.

FOR FURTHER INFORMATION CONTACT: Vince Massey, Aviation Safety Engineer, FAA, Seattle Aircraft Certification Office, Systems and Equipment Branch, 1601 Lind Ave. SW., Renton, Washington 98055-4056; telephone (425) 917-6475, fax (425) 917-6590.

SUPPLEMENTARY INFORMATION:

Comments Invited

We invite you to submit any written data, views, or arguments regarding this proposed AD. Send your comments to the address listed under the caption ADDRESSES. Include the docket number “FAA-2006-23888, Directorate Identifier 2005-SW-03-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NaSSIF Building in Room PL-401 at 400 Seventh Street, SW., Washington, DC. Comments will be available in the AD docket shortly after the DMS receives them.

Discussion

Geneva has issued Service Bulletin GA107-7, dated June 14, 2005, which describes a condition that pilots may encounter regarding restricted cyclic control stick movement in helicopters that have a Geneva P132 console installed in accordance with STC No. SH4747NM. The Geneva center console is wider than the factory-installed Eurocopter console and may limit lateral cyclic movement under certain conditions. After issuance of the original STC for the wider Geneva center console, the FAA discovered that it limited the left lateral cyclic movement from the right seat and the right lateral cyclic movement from the left seat position. Therefore, the STC was revised to include a redesigned right and left cyclic stick. The right-side cyclic stick has been redesigned so that the neutral position of that cyclic control stick is offset 1″ to the right and the left-side cyclic control stick is offset 1″ to the left of the neutral position when compared to the original design of the helicopter. However, this redesign reduces the available lateral movement area to the right side of the right-seated pilot and the left side of the left-seated co-pilot. This may be more critical on the right side of the right-seated pilot because the cyclic grip flange is also on the right side of the cyclic stick. Therefore, during a large lateral cyclic movement to the right, the cyclic grip flange may contact the right-seated pilot's leg, thereby further limiting right cyclic movement. In helicopters with dual cyclic controls, even though it is less limiting because of the left cyclic offset, the right-sided cyclic grip flange contacting the right leg of the left-seated co-pilot may also limit right lateral cyclic movement. This reduced movement may not be noticed except during operations requiring cyclic movements near lateral limits (such as with a substantial lateral CG load, in high crosswinds, or during slope takeoffs and landings). The service bulletin specifies replacing the Eurocopter factory-installed pilot (right-side) cyclic stick and co-pilot (left-side) cyclic stick with a Geneva-manufactured right-side cyclic stick, part number (P/N) G12316-26, and left-side cyclic stick, P/N G12324-26. For cyclic sticks that have a “Bendix” cyclic grip without any cyclic grip flange, which has a 90-degree bend at the top of the cyclic stick, the service bulletin specifies replacing the Eurocopter factory-installed pilot and co-pilot cyclic sticks with a Geneva-manufactured right-side cyclic stick, P/N G12425-26, and left-side cyclic stick, P/N G12426-26 respectively. The service bulletin also specifies modifications of the flange at the base of the cyclic grips and the co-pilot cyclic stand (receptacle) to prevent inadvertent installation of the factory original co-pilot cyclic stick.

These helicopter models are manufactured in France and are type certificated for operation in the United States under the provisions of 14 CFR 21.29 and the applicable bilateral agreement. We have reviewed all available information and determined that AD action is necessary for products of these type designs, which have been modified in accordance with STC No. SH4747NM, that are certificated for operation in the United States.

This unsafe condition concerning the cyclic control is likely to exist or develop on other helicopters of the same type designs that have been modified in accordance with STC No. SH4747NM with the installation of a Geneva P132 console and are registered in the United States. Therefore, the proposed AD would require, within 60 days, replacing the left- and right-side cyclic control sticks; modifying the cyclic grip on both cyclic control sticks by removing a portion of the hand-support flange; and modifying the co-pilot cyclic stand (receptacle) to allow future installations of only the appropriate Geneva cyclic control sticks. The actions would be required to be done in accordance with the specified portions of the service bulletin described previously.

We estimate that this proposed AD would affect 122 helicopters of U.S. registry and the proposed actions would take approximately 14 work hours per helicopter to accomplish at an average labor rate of $65 per work hour. The Geneva cyclic sticks cost about $300 each or $600 per set. Geneva, the manufacturer of the console, has stated that it will supply left- and right-side cyclic sticks at no charge to current owners of Geneva P132 consoles, regardless of when they purchased the console. Based on these figures, we estimate the total cost impact of the proposed AD on U.S. operators to be $184,220 to do the replacements and modifications on all 122 helicopters in the fleet, or $111,020 assuming the cyclic sticks are provided at no cost to operators.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2006-23888; Directorate Identifier 2005-SW-03-AD.

Applicability: Model AS350B, BA, B1, B2, B3, C, D, and D1 helicopters, with a Geneva Aviation, Inc. (Geneva) P132 Console installed in accordance with Supplemental Type Certificate No. SH4747NM, certificated in any category.

Compliance: Required within 60 days, unless accomplished previously.

To prevent restricting full lateral movement of the cyclic control during high lateral center of gravity (CG) load operations in high cross winds and during slope takeoffs or landings, and subsequent loss of control of the helicopter, accomplish the following:

(a) Remove the Eurocopter France installed pilot (right-side) and co-pilot (left-side) cyclic control sticks in accordance with paragraph 2.1 of the Instructions section of Geneva Aviation, Inc. Service Bulletin GA107-7, dated June 14, 2005 (SB).

(1) Install Geneva-manufactured cyclic control sticks, part number (P/N) G12316-26 (right side) and P/N G12324-26 (left side), or

(2) For installations with a “Bendix” cyclic grip, which has a 90-degree bend at the top of the cyclic control stick, install Geneva-manufactured cyclic control sticks, P/N G12425-26 (right side) and P/N G12426-26 (left side).

(b) If the base of the cyclic grip has a flange to help support the pilot's hand, modify both the pilot and co-pilot cyclic control grips by removing a 3/8 inch section of the flange in accordance with paragraph 2.2 of the Instructions section of the SB.

(c) Modify the co-pilot cyclic control stand (receptacle) by installing a blind rivet in accordance with paragraph 2.3 of the Instructions section of the SB.

(d) To request a different method of compliance or a different compliance time for this AD, follow the procedures in 14 CFR 39.19. Contact the Manager, Seattle Aircraft Certification Office, FAA, ATTN: Vince Massey, 1601 Lind Ave. SW., Renton, Washington 98055-4056; telephone (425) 917-6475, fax (425) 917-6590, for information about previously approved alternative methods of compliance.

Issued in Fort Worth, Texas, on February 2, 2006.
David A. Downey,
Manager, Rotorcraft Directorate, Aircraft Certification Service.

[FR Doc. E6-2759 Filed 2-27-06; 8:45 am]

BILLING CODE 4910-13-P